DEPARTMENT OF THE TREASURY

Senior Executive Service; Legal Division Performance Review Board

AGENCY: Department of the Treasury.

ACTION: Notice of members of the Legal Division Performance Review Board (PRB).

SUMMARY: Pursuant to 5 U.S.C. 4314(c)(4), this notice announces the appointment of members of the Legal Division PRB. The purpose of this Board is to review and make recommendations concerning proposed performance appraisals, ratings, bonuses, and other appropriate personnel actions for incumbents of SES positions in the Legal Division.

DATES: Effective Date: October 20, 2014.

FOR FURTHER INFORMATION CONTACT: Office of the General Counsel, Department of the Treasury, 1500 Pennsylvania Avenue NW., Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows:

Paul Ahern, Deputy Assistant General Counsel (Enforcement & Intelligence);

Priya R. Aiyar, Deputy General Counsel;

Trisha Anderson, Assistant General Counsel (Enforcement & Intelligence);

Peter A. Bieger, Assistant General Counsel (Banking and Finance);

George Bostick, Benefits Tax Counsel;

Himamauli Das, Assistant General Counsel (International Affairs);

Margaret Depue, Chief Counsel, Bureau of the Fiscal Service;

Eric Froman, Deputy Assistant General Counsel (Financial Stability Oversight Council);

Anthony Gledhill, Chief Counsel, Alcohol Tobacco, Tax, and Trade Bureau;

Roberto J. Gonzalez, Deputy General Counsel;

Rochelle F. Granat, Assistant General Counsel (General Law, Ethics and Regulation);

Carlton Greene, Chief Counsel, Financial Crimes Enforcement Network;

Elizabeth Horton, Deputy Assistant General Counsel (Ethics);

Mark Kaizen, Associate Chief Counsel (General Legal Services), Internal Revenue Service;

Jeffrey Klein, Deputy Assistant General Counsel (International Affairs);

Steven D. Laughton, Deputy Assistant General Counsel (Banking and Finance);

Robert Neis, Deputy Benefits Tax Counsel;

Sidney Rocke, Chief Counsel, Bureau of Engraving and Printing;

Danielle Rolfes, International Tax Counsel;

Bradley Smith, Chief Counsel, Office of Foreign Assets Control;

Brian Sonfield, Deputy Assistant General Counsel (General Law and Regulation);

Tom Thomas, Division Counsel (Small Business/Self Employed), Internal Revenue Service;

Thomas West, Deputy Tax Legislative Counsel;

Paul Wolfteich, Deputy Chief Counsel, Bureau of the Fiscal Service and;

Lisa Zarlenga, Tax Legislative Counsel.

Dated: October 10, 2014.
Roberto J. Gonzalez,
Deputy General Counsel.

[FR Doc. 2014-24928 Filed 10-17-14; 8:45 am]

BILLING CODE 4810-25-P